DEPARTMENT OF VETERANS AFFAIRS

[OMB Control No. 2900-0874]

Agency Information Collection Activity Under OMB Review: Employment Certification Form

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection revision should be sent within 30 days of publication of this notice to www.reginfo.gov/public/do/PRAMain. Find this particular information collection by selecting “Currently under 30-day Review—Open for Public Comments” or by using the search function. Refer to “OMB Control No. 2900-0874.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0874” in any correspondence.

SUPPLEMENTARY INFORMATION:

Authority: Section 116, Public Law 115-48; Section 8006, Public Law 117.2.

Title: Employment Certification Form, VA Form 22-10201.

OMB Control Number: 2900-0874.

Type of Review: Revision of a currently approved collection.

Abstract: On August 16, 2017, the President signed into law, the Harry W. Colmery Veterans Educational Assistance Act of 2017 (“Forever GI Bill”), Public Law 115-48, which amended Title 38, United States Code to make certain improvements in the laws administered by the Secretary of Veterans Affairs (VA), and for other purposes.

Section 116 of the law authorizes VA to establish a 5-year high technology pilot program for Veterans as an educational program provided by leading technology employers. Section 116 also requires that VA receive Employment Certification from School Certifying Officials (SCOs) and Veterans enrolled in the VET TEC pilot program.

Additionally, Section 116 of Public Law 115-48, and Section 8006 of Public Law 117-2, authorized VA to implement both the Veteran Employment through Technology Education Courses (VET TEC), and the Veteran Rapid Retraining Assistance Program (VRRAP), respectively. Both of these programs provide assistance to an eligible Veteran for the pursuit of a covered program of education. This form therefore allows Veterans who either participated in a VRRAP or VET TEC program to certify to VA that they have found employment in a field related to their program of education. The VET TEC Employment Certification Form 22-10201, which is also used as the employment certification for VRRAP, will allow student Veterans and SCOs to certify that a student Veteran has obtained meaningful employment with the skills acquired during their training program funded by those programs. VA continues to require approval of this information collection, so that VA can verify Veteran employment, as required by the law. VA would not comply with statute, if we do not collect the Veteran Employment Certification. The new laws require VA to certify and verify employment for student Veterans, which aligns with the skills acquired during their training program, funded by the VET TEC program offered by the Department of Veterans Affairs.

An agency may not conduct or sponsor, and a person is not required to respond to a collection of information unless it displays a currently valid OMB control number. The Federal Register Notice with a 60-day comment period soliciting comments on this collection of information was published at 87 FR 20141 on September 19, 2022, page(s) 57261-57262.

Affected Public: Individuals and Households.

Estimated Annual Burden: 159 hours.

Estimated Average Burden Time per Respondent: 5 minutes.

Frequency of Response: Once.

Estimated Number of Respondents: 1,908.

By direction of the Secretary.
Dorothy Glasgow,
VA PRA Clearance Officer, (Alt) Office of Enterprise and Integration, Data Governance Analytics, Department of Veterans Affairs.

[FR Doc. 2022-25623 Filed 11-22-22; 8:45 am]

BILLING CODE 8320-01-P